SOCIAL SECURITY ADMINISTRATION

20 CFR Part 404

[Regulations No. 4]

RIN 0960-AF59

Extension of Expiration Dates for Several Body System Listings

AGENCY: Social Security Administration (SSA).

ACTION: Final rule.

SUMMARY: We adjudicate claims at the third step of our sequential evaluation process for evaluating disability using the Listing of Impairments (the Listings) under the Social Security and Supplemental Security Income (SSI) programs. This final rule extends until July 2, 2003, the date on which several body system listings will no longer be effective. We have made no revisions to the medical criteria in these listings; they remain the same as they now appear in the Code of Federal Regulations. This extension will ensure that we continue to have medical evaluation criteria in the listings to adjudicate claims for disability based on impairments in these body systems at step three of our sequential evaluation process.

EFFECTIVE DATE: This final regulation is effective June 28, 2001.

FOR FURTHER INFORMATION CONTACT: Deborah Barnes, Social Insurance Specialist, Office of Disability, Social Security Administration, 3-A-8 Operations Building, 6401 Security Boulevard, Baltimore, MD 21235-6401, (410) 966-1203 or TTY (410) 966-5609. For information on eligibility or filing for benefits, call our national toll-free number, 1-800-772-1213 or TTY 1-800-325-0778, or visit our Internet web site, Social Security Online, at www.ssa.gov.

SUPPLEMENTARY INFORMATION: We use the Listings in appendix 1 to subpart P of part 404 at the third step of the sequential evaluation process to evaluate claims filed by adults and children for benefits based on disability under the Social Security and SSI programs. The Listings are divided into parts A and B. We use the criteria in part A to evaluate the impairments of adults. We first use the criteria in part B to evaluate impairments of children. If the criteria in part B do not apply, then we will apply the medical criteria in part A.

In this final rule, we are extending until July 2, 2003, the dates on which several body system listings will no longer be effective to allow sufficient time for us to revise them. These body systems are:

Growth Impairment (100.00)

Musculoskeletal System (1.00 and 101.00)

Special Senses and Speech (2.00 and 102.00)

Cardiovascular System (4.00 and 104.00)

Digestive System (5.00 and 105.00)

Genito-Urinary System (6.00 and 106.00)

Hemic and Lymphatic System (7.00 and 107.00)

Skin (8.00)

Endocrine System (9.00 and 109.00)

Multiple Body Systems (110.00)

Neurological (11.00 and 111.00)

Mental Disorders (12.00 and 112.00)

Neoplastic Diseases, Malignant (13.00 and 113.00)

Immune System (14.00 and 114.00)

As a result of medical advances in disability evaluation and treatment, and program experience, we should periodically review and update the Listings. We are extending these dates because we will not complete revised listings criteria for these body systems by the current expiration dates. Currently, we are in the process of revising these body system listings and intend to publish proposed and final rules for each body system listings in a timely manner, with all revisions complete prior to the new extension date.

We last extended the dates on which these body system listings would no longer be effective to July 2, 2001, in final rules published as follows:

• June 3, 1999 (64 FR 29786): Growth Impairment; Musculoskeletal System; Special Senses and Speech; Hemic and Lymphatic System; Skin; Endocrine System; Multiple Body Systems; Neurological; Mental Disorders; Neoplastic Diseases, Malignant; and Immune System.

• December 3, 1999 (64 FR 67719): Cardiovascular System, Digestive System, and Genito-Urinary System.

Until we publish revised language for each body system listings, the current listings language is valid for our program purposes.

Regulatory Procedures

Justification for Final Rule

Pursuant to section 702(a)(5) of the Social Security Act, 42 U.S.C. 902(a)(5), we follow the Administrative Procedure Act (APA) rulemaking procedures specified in 5 U.S.C. 553 in the development of our regulations. The APA provides exceptions to its notice and public comment procedures when an agency finds there is good cause for dispensing with such procedures on the basis that they are impracticable, unnecessary, or contrary to the public interest. We have determined that, under 5 U.S.C. 553(b)(B), good cause exists for dispensing with the notice and public comment procedures for this rule. Good cause exists because this final rule only extends the date on which these body system listings will no longer be effective. It makes no substantive changes to those listings. The current regulations expressly provide that listings may be extended, as well as revised and promulgated again. Therefore, we have determined that opportunity for prior comment is unnecessary, and we are issuing this regulation as a final rule.

In addition, we find good cause for dispensing with the 30-day delay in the effective date of a substantive rule provided by 5 U.S.C. 553(d). As explained above, we are not making any substantive changes in these body system listings. However, without an extension of the expiration dates for these listings, we will lack regulatory criteria for assessing impairments in these body systems at the third step of the sequential evaluation process after the current expiration dates of these listings. In order to ensure that we continue to have regulatory criteria for assessing impairments under these listings, we find that it is in the public interest to make this rule effective on publication.

Executive Order 12866

The Office of Management and Budget (OMB) has reviewed this final rule in accordance with Executive Order (E.O.) 12866. We have also determined that this final rule meets the plain language requirement of E.O. 12866.

Regulatory Flexibility Act

We certify that this final rule will not have a significant economic impact on a substantial number of small entities. Therefore, a regulatory flexibility analysis as provided in the Regulatory Flexibility Act, as amended, is not required.

Paperwork Reduction Act

This final rule imposes no reporting/recordkeeping requirements necessitating clearance by OMB.

(Catalog of Federal Domestic Assistance Program Nos. 96.001, Social Security-Disability Insurance; 96.002, Social Security-Retirement Insurance; 96.004, Social Security-Survivors Insurance; 96.006, Supplemental Security Income)

List of Subjects in 20 CFR Part 404

Administrative practice and procedure, Blind, Disability benefits, Old-Age, Survivors and Disability Insurance, Reporting and recordkeeping requirements, Social Security.

Dated: June 21, 2001.
Larry G. Massanari,
Acting Commissioner of Social Security.

For the reasons set forth in the preamble, part 404, subpart P, chapter III of title 20 of the Code of Federal Regulations is amended as set forth below.

PART 404—FEDERAL OLD-AGE, SURVIVORS AND DISABILITY INSURANCE (1950- )

Subpart P—[Amended]

1. The authority citation for subpart P of part 404 continues to read as follows:

Authority: Secs. 202, 205(a), (b), and (d)-(h), 216(i), 221(a) and (i), 222(c), 223, 225, and 702(a)(5) of the Social Security Act (42 U.S.C. 402, 405(a), (b), and (d)-(h), 416(i), 421(a) and (i), 422(c), 423, 425, and 902(a)(5)); sec. 211(b), Pub. L. 104-193, 110 Stat. 2105, 2189.

2. Appendix 1 to subpart P of part 404 is amended by revising items 1, 2, 3, 5, 6, 7, 8, 9, 10, 11, 12, 13, 14, and 15 of the introductory text before Part A to read as follows:

Appendix 1 to Subpart P of Part 404—Listing of Impairments

* * * * *

1. Growth Impairment (100.00): July 2, 2003.

2. Musculoskeletal System (1.00 and 101.00): July 2, 2003.

3. Special Senses and Speech (2.00 and 102.00): July 2, 2003.

* * * * *

5. Cardiovascular System (4.00 and 104.00): July 2, 2003.

6. Digestive System (5.00 and 105.00): July 2, 2003.

7. Genito-Urinary System (6.00 and 106.00): July 2, 2003.

8. Hemic and Lymphatic System (7.00 and 107.00): July 2, 2003.

9. Skin (8.00): July 2, 2003.

10. Endocrine System (9.00 and 109.00): July 2, 2003.

11. Multiple Body Systems (10.00): June 19, 2008, and (110.00): July 2, 2003.

12. Neurological (11.00 and 111.00): July 2, 2003.

13. Mental Disorders (12.00 and 112.00): July 2, 2003.

14. Neoplastic Diseases, Malignant (13.00 and 113.00): July 2, 2003.

15. Immune System (14.00 and 114.00): July 2, 2003.

* * * * *

[FR Doc. 01-16251 Filed 6-27-01; 8:45 am]

BILLING CODE 4191-02-P